DEPARTMENT OF HOMELAND SECURITY

Transportation Security Administration

Revision of Agency Information Collection Activity Under OMB Review: Department of Homeland Security Traveler Redress Inquiry Program (DHS TRIP)

AGENCY: Transportation Security Administration, DHS.

ACTION: 30-Day notice.

SUMMARY: This notice announces that the Transportation Security Administration (TSA) has forwarded the Information Collection Request (ICR), Office of Management and Budget (OMB) control number 1652-0044, abstracted below, to OMB for review and approval of a revision of the currently approved collection under the Paperwork Reduction Act (PRA). The ICR describes the nature of the information collection and its expected burden. The collection involves the submission of identifying and travel experience information by individuals requesting redress through the Department of Homeland Security Traveler Redress Inquiry Program (DHS TRIP). The collection also involves two voluntary customer satisfaction surveys for program improvement.

DATES: Send your comments by December 26, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@dhs.gov.

SUPPLEMENTARY INFORMATION: TSA published a Federal Register notice, with a 60-day comment period soliciting comments, of the following collection of information on July 24, 2025, 90 FR 34875. TSA received no comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques.

Information Collection Requirement

Title: DHS TRIP.

Type of Request: Revision of a currently approved collection.

OMB Control Number: 1652-0044.

Forms(s): Traveler Inquiry and Survey Forms.

Affected Public: Traveling Public.

Abstract: DHS TRIP is a single point of contact for individuals who have inquiries or seek resolution regarding difficulties they have experienced during their travel screening. TSA manages the DHS TRIP office on behalf of DHS. The collection of information includes: (1) a Traveler Inquiry Form, which includes the individual's identifying and travel experience information; and (2) two optional, anonymous customer satisfaction surveys to allow the public to provide DHS feedback on its experience using DHS TRIP.

TSA is revising the collection to comply with a Government Accountability Office recommendation to update the surveys to include opportunities for suggestions and feedback on the application process.¹ The revisions add additional questions and provide open text for respondents to offer suggestions and feedback on the application and the redress processes. TSA also has made non-substantive changes to the application, correcting a typo and changing the phrase “Name of Entry into the U.S.” to “Name at Entry into the U.S.”

¹ GAO-25-106333 Terrorist Watchlist: Actions Needed to Improve Nomination and Redress for U.S. Persons.

Estimated Annual Number of Respondents: 26,000.

Estimated Annual Burden Hours: 13,303.

Estimated Annual Cost Burden: $1,261.

Dated: November 21, 2025.
Christina A. Walsh,
Paperwork Reduction Act Officer, Information Technology, Transportation Security Administration.

[FR Doc. 2025-21111 Filed 11-25-25; 8:45 am]

BILLING CODE 9110-05-P